DEPARTMENT OF JUSTICE

Notice of Lodging of Settlement Agreement Under the Resource Conservation and Recovery Act (RCRA), the Clean Water Act, the Clean Air Act, the Toxic Substances Control Act, the Emergency Planning and Community-Right-To-Know Act and the Comprehensive Environmental Response, Compensation and Liability Act (CERCLA)

Notice is hereby given that on October 17, 2003, a proposed settlement in In Re National Steel Corp., No. 02-08713 was lodged with the United States Bankruptcy Court for the Northern District of Illinois.

In this action the United States sought civil penalties and injunctive relief arising from National Steel Corporation's violation of several environmental statutes, including the Resource Conservation and Recovery Act, the Clean Water Act, the Clean Air Act, the Emergency Planning and Community Right-to-Know Act, the Toxic Substances Control Act, and the Comprehensive Environmental Response, Compensation, and Liability Act (“CERCLA”) at its three integrated steel mills in Granite City, Illinois, Ecorse, Michigan, and Portage, Indiana. The settlement agreement calls for the allowance of a general unsecured claim in the amount of $2.1 million in civil penalties for these violations. Payment of the penalty will be subject to procedures in National Steel Corporation's Chapter 11 Bankruptcy proceeding, In Re: National Steel Corporation, et al., No. 02-08699 (Bankr. N.D. Ill., filed March 6, 2002).

In addition, the settlement agreement calls for the allowance of two general unsecured claims in the amounts of $115,565 and $5,200 for reimbursement of response costs incurred pursuant to CERCLA by EPA at the Abby Street/Hickory Woods Subdivision Superfund Site located in Buffalo, New York and the Rasmussen Dump Site located in Green Oak Township, Michigan, respectively. Payment of these response costs will also be subject to procedures in National Steel Corporation's Chapter 11 Bankruptcy proceeding.

The Department of Justice will receive for a period of thirty (30) days from the date of this publication comments relating to the settlement. Comments should be addressed to the Assistant Attorney General, Environment and Natural Resources Division, P.O. Box 7611, U.S. Department of Justice, Washington, DC 20044-7611, and should refer to In Re National Steel, D.J. Ref. 90-11-3-07887.

The settlement agreement may be examined at the Office of the United States Attorney, Northern District of Illinois, 219 South Dearborn Street, Suite 300, Chicago, IL 60604 and at U.S. EPA Region 5, 77 West Jackson Boulevard, Chicago, IL 60604. During the public comment period, the settlement agreement may also be examined on the following Department of Justice Web site, http://www.usdoj.gov/enrd/open.html. A copy of the settlement agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.00 (25 cents per page reproduction cost) payable to the U.S. Treasury.

William D. Brighton,
Assistant Chief, Environmental Enforcement Section, Environment and Natural Resources Division.

[FR Doc. 04-843 Filed 1-14-04; 8:45 am]

BILLING CODE 4410-15-M